DEPARTMENT OF HOMELAND SECURITY

Federal Emergency Management Agency

[Docket ID: FEMA-2020-0013; OMB No. 1660-0061]

Agency Information Collection Activities: Proposed Collection; Comment Request; Federal Assistance to Individuals and Households Program

AGENCY: Federal Emergency Management Agency, DHS.

ACTION: Notice and request for comments.

SUMMARY: The Federal Emergency Management Agency, as part of its continuing effort to reduce paperwork and respondent burden, invites the general public to take this opportunity to comment on a revision of a currently approved information collection. In accordance with the Paperwork Reduction Act of 1995, this notice seeks comments concerning the need to collect information from individuals or households, and States, territories, and Tribal governments in order to provide and/or administer disaster assistance through the Individuals and Households Program.

DATES: Comments must be submitted on or before May 11, 2020.

ADDRESSES: To avoid duplicate submissions to the docket, please use only one of the following means to submit comments:

(1) Online. Submit comments at www.regulations.gov under Docket ID FEMA-2020-0013. Follow the instructions for submitting comments.

(2) Mail. Submit written comments to Docket Manager, Office of Chief Counsel, DHS/FEMA, 500 C Street SW, 8NE-1604, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Brian Thompson, Supervisory Program Specialist, FEMA Recovery Directorate, 540-686-3602. You may contact the Information Management Division for copies of the proposed collection of information at email address: FEMA-Information-Collections-Management@fema.dhs.gov.

SUPPLEMENTARY INFORMATION: The Robert T. Stafford Disaster Relief and Emergency Assistance Act (Stafford Act), Public Law 93-288, as amended, is the legal basis for the Federal Emergency Management Agency (FEMA) to provide financial assistance and services to individuals applying for disaster assistance benefits in the event of a federally declared disaster. Regulations in 44 CFR, 206.110—Federal Assistance to Individuals and Households implements the policy and procedures set forth in Section 408 of the Stafford Act, 42 U.S.C. 5174, as amended. This program provides financial assistance and, if necessary, direct assistance to eligible individuals and households who, as a direct result of a major disaster or emergency, have uninsured or under-insured, necessary expenses and serious needs, and are unable to meet such expenses or needs through other means.

This collection provides applicants the ability to request approval of late applications, request continued temporary housing assistance, appeal program decisions, request advance disaster assistance, request assistance checks not received be stopped and reissued, and to authorize the release of information third parties. This collection also allows for the establishment of an annual agreement between FEMA and States, territories, or Tribal governments regarding how the Other Needs provision of IHP will be administered: By FEMA, by the State, territory, or Tribal government, or jointly.

Collection of Information

Title: Federal Assistance to Individuals and Households Program.

Type of Information Collection: Revision of a currently approved information collection.

OMB Number: 1660-0061.

FEMA Forms: FEMA Form 010-0-11, Individuals and Households Program (IHP)—Other Needs Assistance Administrative Option Selection; Development of State/Tribal Administrative Plan (SAP) for Other Needs Provision of IHP; FEMA Form 010-0-12 (English), Individuals and Households Program Application for Continued Temporary Housing Assistance; FEMA Form 010-0-12S (Spanish), Programa de Individuos y Familias Solicitud Para Continuar La Asistencia de Vivienda Temporera; Request for Approval of Late Registration; Appeal of Program Decision; FEMA Form 009-0-95 (English), Request for Advance Disaster Assistance; FEMA Form 009-0-95S (Spanish), Solicitud de Adelanto de la Asistencia por Desastre; FEMA Form 009-0-96 (English), Request to Stop Payment and Reissue Disaster Assistance Check; FEMA Form 009-0-96S (Spanish), Solicitud para Detener el Pago y Reemitir el Cheque de Asistencia por Desastre; FEMA Form 140-003d-1—(English), Authorization for the Release of Information Under the Privacy Act; FEMA Form 140-003d-1S—(Spanish), Autorización para la Divulgación de Información bajo el Acta de Privacidad.

Abstract: This collection provides applicants the ability to request approval of late applications, request continued temporary housing assistance, appeal program decisions, request advance disaster assistance, request assistance checks not received be stopped and reissued, and to authorize the release of information third parties. It also establishes an agreement between FEMA and States, territories, and Tribal governments regarding the administration of the Other Needs provision of IHP.

Affected Public: Individuals or Households; State, local, or Tribal Government.

Estimated Number of Respondents: 140,753.

Estimated Number of Responses: 185,057.

Estimated Total Annual Burden Hours: 150,828.

Estimated Total Annual Respondent Cost: $5,530,313.

Estimated Respondents' Operation and Maintenance Costs: NA.

Estimated Respondents' Capital and Start-Up Costs: NA.

Estimated Total Annual Cost to the Federal Government: $1,089,213.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Deputy Director of Information Management, Mission Support, Federal Emergency Management Agency, Department of Homeland Security.

[FR Doc. 2020-04936 Filed 3-10-20; 8:45 am]

BILLING CODE 9111-23-P